UNIFIED CARRIER REGISTRATION PLAN

Sunshine Act Meetings

TIME AND DATE: November 7, 2023, 10 a.m. to 1 p.m., mountain time.

PLACE: This meeting shall take place at the Salt Lake City Marriott University Park, 480 Wakara Way, Salt Lake City, UT 84108. This meeting will also be accessible via conference call and via Zoom Meeting and Screenshare. Any interested person may call (i) 1-929-205-6099 (US Toll) or 1-669-900-6833 (US Toll), Meeting ID: 999 1833 7574, to listen and participate in this meeting. The website to participate via Zoom Meeting and Screenshare is https://kellen.zoom.us/meeting/register/tJ0kduGrrTwvHdC_v5GnxjaRGZbf1VnECKf2.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—UCR Finance Subcommittee Chair

The UCR Finance Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Finance Subcommittee Chair

For Discussion and Possible Subcommittee Action

The agenda will be reviewed, and the Subcommittee will consider adoption of the agenda.

Ground Rules

➢ Subcommittee action only to be taken in designated areas on agenda.

IV. Review and Approval of Subcommittee Minutes From the June 27, 2023, Meeting—UCR Finance Subcommittee Chair

For Discussion and Possible Subcommittee Action

Draft minutes from the June 27, 2023, Subcommittee meeting in Providence, RI will be reviewed. The Subcommittee will consider action to approve.

V. Revenues From 2023 and 2024 Fees—UCR Depository Manager/Plan Administrator

The UCR Depository Manager/Plan Administrator will review the revenues received from the 2023 and 2024 plan year fees.

VI. Management Report—UCR Finance Subcommittee Chair and UCR Depository Manager

The UCR Finance Subcommittee Chair and UCR Depository Manager will provide an update on UCR finances including current year 2023 budget versus expenditures and related topics.

VII. Review of 2024 Administrative Budget—UCR Depository Manager/Plan Administrator

For Discussion and Possible Subcommittee Action

The UCR Depository Manager/Plan Administrator will lead a discussion regarding the 2024 UCR administrative budget. The Subcommittee may take action to recommend to the Board adoption of the 2024 budget.

VIII. Finance Subcommittee Meetings in 2024—UCR Finance Subcommittee Chair and UCR Executive Director

The UCR Finance Subcommittee Chair and UCR Executive Director will discuss upcoming Finance Subcommittee meetings in 2024.

IX. Other Business—UCR Finance Subcommittee Chair

The UCR Finance Subcommittee Chair will call for any other items Subcommittee members would like to discuss.

X. Adjourn—UCR Finance Subcommittee Chair

The UCR Finance Subcommittee Chair will adjourn the meeting.

The agenda will be available no later than 5:00 p.m. Eastern time, October 30, 2023 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-24281 Filed 10-31-23; 11:15 am]

BILLING CODE 4910-YL-P